DEPARTMENT OF COMMERCE

Foreign-Trade Zones Board

Docket 37-2001

Foreign-Trade Zone 72—Indianapolis Airport Authority Expansion of Facilities and Manufacturing Authority—Subzone 72B, Eli Lilly and Company Plants (Pharmaceuticals) Indianapolis, Indiana, Area

An application has been submitted to the Foreign-Trade Zones Board (the Board) by the Indianapolis Airport Authority, grantee of FTZ 72, pursuant to § 400.32(b)(1) of the Board's regulations (15 CFR part 400), requesting authority on behalf of Eli Lilly and Company (Lilly), to add FTZ manufacturing capacity and to expand the scope of manufacturing authority under zone procedures at Subzone 72B, at the Lilly plants in the Indianapolis, Indiana, area. It was formally filed on September 13, 2001.

Subzones 72B, 72C, and 72D were approved by the Board in 1985 (Board Order 309, 50 FR 31404, 8/2/85). The subzones were consolidated into one subzone and redesignated Subzone 72B in 1996 (A(27f)-1-96). The facilities (14,300 employees) are used to manufacture, test, package, and warehouse human and animal health products.

Subzone 72B currently consists of three sites (366 buildings, 6,709,300 sq. ft., 1,456 acres) in the Indianapolis, Indiana, port of entry area. The applicant is proposing to expand Subzone 72B which would then consist of 491 buildings of 21,905,916 square feet on 3,439 acres.

Site 1 (5 parcels in Marion County, Indianapolis area), currently consists of 60 buildings containing 5,029,300 sq. ft. on 260 acres. Lilly is now proposing to add 125 buildings and 13,544,928 sq. ft., and 102 acres. Site 1 would then consist of 185 buildings of 18,574,228 sq. ft. on 359 acres.

Site 2 currently consists of 140 buildings, 1,170,000 sq. ft. on 449 acres on a single parcel located at 2010 Eli Lilly Road, Shadeland, Indiana. Lilly is proposing to add 363,687 square feet to existing and future buildings and add 1,877 acres. Site 2 would then total 140 buildings of 1,533,687 sq. ft. on 2,326 acres.

Site 3, located at State Road 63, Clinton, Indiana, is currently approved for 166 buildings of 510,000 sq. ft. on 747 acres. The proposed expansion would add 1,288,001 sq. ft. to existing and future buildings and add 4 acres. Site 3 would then consist of 166 buildings, 1,798,001 sq. ft. on 751 acres.

The application also requests to expand and clarify the scope of authority for manufacturing activity conducted under FTZ procedures at Subzone 72B to include additional general categories of inputs that have recently been approved by the Board for other pharmaceutical plants. They include gums, resins, starches, glycerol, vegetable extracts, mineral oils, chemically pure sugars, empty capsules for pharmaceutical use, protein concentrates, prepared animal feed, sodium chloride, natural magnesium phosphates and carbonates, gypsum, talc, anhydrite and plasters, petroleum jelly, paraffin and waxes, sulfuric acid, phosphoric acid, other inorganic acids or compounds of nonmetals, ammonia, fluorides, sulfates, sulfites, phosphates, cyanides, silicates, hydroxides, zinc oxide, titanium oxide, hydrazine and hydroxylamine, carbonates, salts of oxometallic acids, radioactive chemical elements, compounds of rare earth metals, hydrocarbons, acyclic hydrocarbons, alcohols, phenols, derivatives of phenols or peroxides, ethers, epoxides, aldehydes, ketone function compounds, mono- and polycarboxylic acids, phosphoric esters; amine-, carboxymide, nitrile- and oxygen-function compounds; heterocyclic compounds, sulfonamides, acetals and hemiacetals, phosphoric esters and their salts, diazo-compounds, glands for therapeutic uses, insecticides, rodenticides, fungicides and herbicides, fertilizers, vitamins, hormones, antibiotics, gelatins, enzymes, pharmaceutical glaze, essential oils, albumins, gelatins, activated carbon, residual lyes, acrylic polymers, color lakes, soaps and detergents, wadding, gauze and bandages, pharmaceutical glaze, hair preparations, lubricating preparations, albumins, prepared glues and adhesives, catalytic preparations, diagnostic or laboratory reagents, prepared binders, polymers of ethylene, acrylic polymers, self-adhesive plates and sheets, other articles of vulcanized rubber, plastic cases, cardboard boxes, printed books, brochures and similar printed matter, printing ink, carboys, bottles, and flasks, stoppers, caps, and lids, aluminum foil, tin plates and sheets, taps, cocks and valves, and medical instruments and appliances.

FTZ procedures would exempt Lilly from Customs duty payments on the foreign components used in export activity. On its domestic sales, the company would be able to elect the duty rates that apply to finished products (primarily duty-free for finished pharmaceuticals and up to 14.2% for intermediates) for the foreign materials noted above (duty rates ranging from duty-free to 14.5%). The application indicates that the expanded use of FTZ procedures will help improve Lilly's international competitiveness.

Public comment on the application is invited from interested parties. Submissions (original and three copies) shall be addressed to the Board's Executive Secretary at the address below. The closing period for their receipt is November 5, 2001. Rebuttal comments in response to material submitted during the foregoing period may be submitted during the subsequent 5-day period (to November 9, 2001).

Copies of the applications will be available for public inspection at the following locations:

U.S. Department of Commerce, Export Assistance Center, 11405 N. Pennsylvania Street, Suite 106, Carmel, Indiana 46032

Office of the Executive Secretary, Foreign-Trade Zones Board, Room 4008, U.S. Department of Commerce, 14th Street & Pennsylvania Avenue, NW, Washington, DC 20230

Dated: September 13, 2001.
Dennis Puccinelli,
Executive Secretary.

[FR Doc. 01-23455 Filed 9-19-01; 8:45 am]

BILLING CODE 3510-DS-P